DEPARTMENT OF ENERGY

Federal Energy Regulatory Commission

[Project No. 12965-002]

Wickiup Hydro Group, LLC; Notice of Schedule Change

On June 27, 2016, the Commission issued a “Notice of Teleconference to Discuss Endangered Species Act Consultation” for the Wickiup Dam Hydroelectric Project, FERC Project No. 12965. This teleconference has been rescheduled due to unforeseen scheduling conflicts to August 1, 2016 at 1:00 p.m. Pacific Daylight Time (4:00 p.m. Eastern Daylight Time). Please email Karen Sughrue at karen.sughrue@ferc.gov to RSVP.

Dated: July 11, 2016.
Kimberly D. Bose,
Secretary.

[FR Doc. 2016-16898 Filed 7-15-16; 8:45 am]

BILLING CODE 6717-01-P